DEPARTMENT OF JUSTICE

Antitrust Division

Notice Pursuant to the National Cooperative Research and Production Act of 1993— Medical Technology Enterprise Consortium

Notice is hereby given that, on May 3, 2018, pursuant to Section 6(a) of the National Cooperative Research and Production Act of 1993, 15 U.S.C. 4301 et seq. (“the Act”), Medical Technology Enterprise Consortium (“MTEC”) has filed written notifications simultaneously with the Attorney General and the Federal Trade Commission disclosing changes in its membership. The notifications were filed for the purpose of extending the Act's provisions limiting the recovery of antitrust plaintiffs to actual damages under specified circumstances. Specifically, Adventist Health System/Sunbelt, Inc. dba Florida Hospital, Orlando, FL; AegisCN LLC, Durham, NC; AmpliPhi Biosciences Corporation, San Diego, CA; Auckland UniServices Limited, Auckland, NEW ZEALAND; AxoGen Corporation, Alachua, FL; Axonova Medical, LLC, Philadelphia, PA; Blood Systems, Inc. dba Blood Systems Research Institute, Scottsdale, AZ; Blumio, Inc., San Francisco, CA; Board of Trustees of the Leland Stanford Junior University, Palo Alto, CA; Cellphire, Inc., Rockville, MD; Clinical Research Management, Inc. dba ICON Government and Public Health Solutions (ICON GPHS), Hinckley, OH; Cohen Veterans Bioscience, Inc., Cambridge, MA; Deloitte Consulting LLP, McLean, VA; Design Interactive, Inc., Orlando, FL; Disarm Therapeutics, Inc., Cambridge, MA; Dynport Vaccine Company LLC, Frederick, MD; Engineering and Computer Simulations, Inc., Orlando, FL; EyeSonix LLC, Long Beach, CA; Fibralign Corp., Union City, CA; FlexDex, Inc., Brighton, MI; FloTBI, Cleveland, OH; Fortuna Fix, London, UK; Imbed Biosciences, Fitchburg, WI; Kitware, Inc., Clifton Park, NY; LayerBio, Inc., Arlington, MA; LifeLens Technologies, LLC, Warrington, PA; Massachusetts Eye and Ear Infirmary, Boston, MA; MVK Pharmaceuticals, LLC, Indianapolis, IN; National Trauma Institute dba Coalition for National Trauma Research, San Antonio, TX; New York University School of Medicine, New York, NY; Noveome Biotherapeutics, Inc., Pittsburgh, PA; Pendar Technologies LLC, Cambridge, MA; Pluristem LTD, Haifa, ISRAEL; Quantum Applied Science and Research, Inc., San Diego, CA; RegenFix, LLC, Toledo, OH; Renerva, LLC, Pittsburgh, PA; ReNetX Bio, Inc., New Haven, CT; SAVIR GmbH, Berlin, GERMANY; Scion NeuroStim, LLC, Raleigh, NC; Selfit Medical Ltd., Ramat Ha'sharon, ISRAEL; SOL-DEL MEDICAL LTD., KFAR SABA, ISRAEL; Southern Research Institute, Birmingham, AL; SRI International, Menlo Park, CA; TerumoBCT, Inc., Lakewood, CO; The Children's Hospital Corporation dba Boston Children's Hospital, Boston, MA; The Informatics Applications Group, Inc., Reston, VA; The Methodist Hospital Research Institute dba Houston Methodist Research Institute, Houston, TX; University of California, San Diego, San Diego, CA; University of California, San Francisco, San Francisco, CA; University of Kentucky Research Foundation, Lexington, KY; URO-RESEARCH, LLC, Houston, TX; West Virginia University Research Corporation, Morgantown, WV; WESTAT, Inc., Rockville, MD; and Yale University, New Haven, CT, have been added as parties to this venture.

Also, Aequor, Inc., Oceanside, CA; Brainpaths LLC, Las Vegas, NV; Combat Wounded Veteran Challenge, Inc., Saint Petersburg, FL; Infinite Arthroscopy, Inc., Cleveland Heights, OH; Institute for Applied Neurosciences, Charleston, SC; Kestrel Corporation, Albuquerque, NM; LifeLink Foundation, Inc., Tampa, FL; Maryland Development Center, Baltimore, MD; Nerves Incorporated, Dallas, TX; Neuroplast BV, Maastricht, THE NETHERLANDS; Northwestern University, Evanston, IL; NovaHep AB, Gothenburg, SWEDEN; Pertexa Healthcare Technologies, Inc., Ridgecrest, CA; The University of Cincinnati, Department of Surgery, Cincinnati, OH; Trideum BioSciences, Frederick, MD; University of South Carolina, Columbia, SC; University of Utah, Salt Lake City, UT; and Vapogenix, Inc., Houston, TX, have withdrawn as parties to this venture.

No other changes have been made in either the membership or planned activity of the group research project. Membership in this group research project remains open, and MTEC intends to file additional written notifications disclosing all changes in membership.

On May 9, 2014, MTEC filed its original notification pursuant to Section 6(a) of the Act. The Department of Justice published a notice in the Federal Register pursuant to Section 6(b) of the Act on June 9, 2014 (79 FR 32999).

The last notification was filed with the Department on January 18, 2018. A notice was published in the Federal Register pursuant to Section 6(b) of the Act on March 12, 2018 (83 FR 10751).

Patricia A. Brink,
Director of Civil Enforcement, Antitrust Division.

[FR Doc. 2018-13064 Filed 6-18-18; 8:45 am]

BILLING CODE 4410-11-P